DEPARTMENT OF THE INTERIOR

National Park Service

[NPS-WASO-CR-NAGPRA-21578; PPWOCRADN0, PCU00RP14.R50000; OMB Control Number 1024-0144]

Agency Information Collection Activities: Native American Graves Protection and Repatriation Regulations

AGENCY: National Park Service, Interior.

ACTION: Notice of information collection; request for comment.

SUMMARY: In accordance with the Paperwork Reduction Act of 1995, the National Park Service is proposing to renew an information collection.

DATES: Interested persons are invited to submit comments on or before May 25, 2018.

ADDRESSES: Send your comments on the information collection request (ICR) by mail to Tim Goddard, Information Collection Clearance Officer, National Park Service, 12201 Sunrise Valley Drive, MS-242, Reston, VA 20192; or by email to tim_goddard@nps.gov. Please reference OMB Control Number 1024-0144 in the subject line of your comments.

FOR FURTHER INFORMATION CONTACT: To request additional information about this ICR, contact Melanie O'Brien, Manager, National Native American Graves Protection and Repatriation Act (NAGPRA) Program, by email at melanie_o'brien@nps.gov, or by telephone at 202-354-2204.

SUPPLEMENTARY INFORMATION: We (National Park Service, NPS), in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary for the proper functions of the NPS National Native American Graves Protection and Repatriation Act (NAGPRA) Program; (2) will this information be processed and used in a timely manner; (3) is the estimate of burden accurate; (4) how might the NPS National NAGPRA Program enhance the quality, utility, and clarity of the information to be collected; and (5) how might the NPS National NAGPRA Program minimize the burden of this collection on the respondents, including through the use of information technology.

Comments that you submit in response to this notice are a matter of public record. We will include or summarize each comment in our response to OMB to approve this ICR. Before including your address, phone number, email address, or other personal identifying information in your comment, you should be aware that your entire comment—including your personal identifying information—may be made publicly available at any time. While you can ask us in your comment to withhold your personal identifying information from public review, we cannot guarantee that we will be able to do so.

An agency may not conduct or sponsor, and a person is not required to respond to, a collection of information unless it displays a currently valid OMB control number.

Title of Collection: Native American Graves Protection and Repatriation Regulations, 43 CFR part 10.

OMB Control Number: 1024-0144.

Form Number: None.

Type of Review: Extension of a currently approved collection.

Respondents/Affected Public: Any institution or State or local government agency (including any institution of higher learning) that receives Federal funds and has possession of, or control over, Native American human remains, funerary objects, sacred objects, or objects of cultural patrimony (“museum”).

Total Estimated Number of Annual Responses: 203.

Total Estimated Number of Annual Burden Hours: 4,597.

Total Number of Annual Respondents: 139.

Estimated Completion Time per Response: Varies.

Information collection | Total number of annual responses | Estimated completion time per response (hrs.) | Total number of annual burden hours | Total number of annual respondents
Summaries (initial) | 6 | 100 | 600 | 6
Summaries (updated/amended) | 14 | 10 | 140 | 14
Inventories (initial) | 11 | 200 | 2,200 | 11
Inventories (updated/amended) | 31 | 10 | 310 | 31
Notices of Inventory Completion | 96 | 10 | 960 | * 45
Notices of Intent to Repatriate Cultural Items | 38 | 10 | 380 | * 26
Correcting Previously Published Notices | 7 | 1 | 7 | * 6
Totals | 203 |  | 4,597 | 139
* Typically, a respondent will submit one response. However, some respondents submit multiple responses in one year.

Respondent's Obligation: Mandatory.

Frequency of Collection: On occasion.

Total Estimated Annual Non-hour Burden Cost: None.

Abstract: One of the purposes of the Native American Graves Protection and Repatriation Act (NAGPRA, the Act) is to provide for the repatriation of Native American human remains and funerary objects, sacred objects, and objects of cultural patrimony (“cultural items”) to lineal descendants, and affiliated Indian tribes and Native Hawaiian organizations. The Secretary of the Interior has several responsibilities under the Act, which include promulgating regulations to carry out the Act and publishing notices in the Federal Register.

Under NAGPRA and its implementing regulations, a museum must compile an inventory of Native American human remains and associated funerary objects under its control and, to the extent possible based on the information it possesses, identify the geographical and cultural affiliation of the human remains and funerary objects. Inventories must be completed in consultation with Indian tribal government and Native Hawaiian organization officials, and traditional religious leaders. The NPS National NAGPRA Program, on behalf of the Secretary, collects information pertinent for determining the cultural affiliation and geographical origin of the human remains and associated funerary objects, including descriptions, acquisition data, and consultation concerning the human remains and objects, and it makes this information publicly available. The NPS National NAGPRA Program also provides sample inventories to assist museums.

The Act and its implementing regulations require a museum to describe in a summary its holding or collection of Native American objects that might be unassociated funerary objects, sacred objects, or objects of cultural patrimony. The summary is followed by consultation on the identity and cultural affiliation of objects with Indian tribal government and Native Hawaiian organization officials, and traditional religious leaders. The NPS National NAGPRA Program, on behalf of the Secretary, collects information pertinent for determining the cultural affiliation and identity of objects (as cultural items), including descriptions, acquisition data, and parties invited to consult about the objects, and it makes this information publicly available. The NPS National NAGPRA Program also provides sample summaries to assist museums.

After the expiration of the statutory deadlines for completing an inventory and a summary, if a museum receives a new holding or discovers an unreported current holding, or has control of cultural items that are, or are likely to be, culturally affiliated with a newly federally recognized Indian tribe, the museum must update or amend its inventory or summary. The NPS National NAGPRA Program, on behalf of the Secretary, collects information pertinent for determining the cultural affiliation and geographical origin of the human remains and associated funerary objects (in the inventory update), or for determining the cultural affiliation and identity of objects as cultural items (in the summary update), and it makes this information publicly available.

If a museum determines the cultural affiliation of human remains and associated funerary objects in an inventory, the museum must draft and send a written notice of its determination to the affected Indian tribes or Native Hawaiian organizations, and copy the NPS National NAGPRA Program. The NPS National NAGPRA Program, in turn, publishes this notice of inventory completion in the Federal Register on behalf of the Secretary. Similarly, a museum must draft and send a notice of inventory completion to the NPS National NAGPRA Program for publication in the Federal Register where human remains determined by the museum to be culturally unidentifiable are claimed by an Indian tribe or Native Hawaiian organization having a geographical affiliation to the human remains. The information in a notice of inventory completion collected by the NPS National NAGPRA Program is based on the information in the museum's completed inventory. The NPS National NAGPRA Program provides templates for notices of inventory completion to assist museums in drafting these notices.

After receiving a request from an Indian tribe or Native Hawaiian organization to repatriate an object described in a summary, if a museum determines that the object being requested is an unassociated funerary object, a sacred object, or an object of cultural patrimony, and is culturally affiliated with the requestor, the museum drafts and sends a notice of intent to repatriate cultural items to the NPS National NAGPRA Program, which publishes the notice in the Federal Register. The information in a notice of intent to repatriate cultural items collected by the NPS National NAGPRA Program is based on the information in the museum's summary, and is supplemented by information pertinent to the identity and cultural affiliation of the cultural item. The NPS National NAGPRA Program provides a template for a notice of intent to repatriate cultural items to assist museums in drafting this notice.

A museum that revises its decision in a way that changes the number or cultural affiliation of cultural items listed in a notice that was previously published in the Federal Register must draft and send a correction notice to the NPS National NAGPRA Program, which publishes the correction notice in the Federal Register. The NPS National NAGPRA Program provides a template for a correction notice to assist museums in drafting this notice.

The NPS National NAGPRA Program collects and makes publicly available the above described information in order to ensure the protection of the constitutional due process rights of lineal descendants, Indian tribes and Native Hawaiian organizations related to property. As evidence of a museum's compliance with the Act, the information collected by the NPS National NAGPRA Program serves the reporting museum because only where a museum repatriates a cultural item in good faith pursuant to the Act will it be immune from liability for claims by an aggrieved party or for claims of breach of fiduciary duty, public trust, or violations of state law that are inconsistent with the provisions of NAGPRA.

Authorities: The authorities for this action are the Native American Graves Protection and Repatriation Act (NAGPRA; 25 U.S.C. 3001 et seq.), NAGPRA Regulations (43 CFR part 10), and the Paperwork Reduction Act of 1995 (44 U.S.C. 3501 et seq.).

Tim Goddard,
Information Collection Clearance Officer, National Park Service.

[FR Doc. 2018-06056 Filed 3-23-18; 8:45 am]

BILLING CODE 4312-52-P